DEPARTMENT OF COMMERCE

National Oceanic and Atmospheric Administration

[Docket No. 000927276-1235-02]

RIN 0648-ZA94

Coastal Services Center Broad Area Announcement

AGENCY: National Ocean Service (NOS), National Oceanic and Atmospheric Administration (NOAA), Commerce.

ACTION: Notice of availability of federal assistance.

SUMMARY: The NOAA Coastal Services Center (Center) announces the availability of federal assistance for Fiscal Year (FY) 2002 in the following program areas: Landscape Characterization and Restoration (LCR), Integration and Development (I&D), Outreach, Coastal Remote Sensing (CRS), and the Director's Office (DO). This announcement provides guidelines for these program areas and includes details for the technical program, evaluation criteria, and selection procedures of each program. Selected recipients will enter into either a cooperative agreement with the Center or receive a grant depending upon the amount of the Center's involvement in the project.

DATES: Each program area has specific dates for application and proposal deadlines. Refer directly to that program area description under SUPPLEMENTARY INFORMATION listed below.

ADDRESSES: Send all proposals to: NOAA Coastal Services Center, 2234 South Hobson Avenue, Charleston, SC 29405-2413. Landscape Characterization and Restoration (LCR) proposals should be sent to the attention of Jeffery Adkins. Integration and Development (I&D) proposals should be sent to the attention of James Lewis Free. Outreach proposals should be sent to the attention of Jan Kucklick. Coastal Remote Sensing (CRS) proposals should be sent to the attention of Mark Jansen. Information Resources (IR) proposals should be sent to the attention of Anne Ball. Director's Office (DO) proposals should be sent to the attention of Jeffrey Payne.

FOR FURTHER INFORMATION CONTACT: Administrative questions should be directed to Violet Legette, (843) 740-1222 or Violet.Legette@noaa.gov. Technical point of contact for Landscape Characterization and Restoration is Jeffery Adkins, (843) 740-1244 or Jeffery.Adkins@noaa.gov. Technical point of contact for Integration and Development is James Lewis Free, (843) 740-1185 or James.L.Free@noaa.gov. Technical point of contact for Outreach is Jan Kucklick, (843) 740-1279 or Janet.Kucklick@noaa.gov. Technical point of contact for Coastal Remote Sensing is Mark Jansen, (843) 740-1262 or Mark.Jansen@noaa.gov. Technical point of contact for Information Resources is Anne Ball, (843) 740-1229 or Anne.Ball@noaa.gov. Technical point of contact for the Director's Office is Jeff Payne, (843) 740-1207 or Jeff.Payne@noaa.gov.

SUPPLEMENTARY INFORMATION: The Center announces the availability of federal assistance for Fiscal Year (FY) 2002 in the following program areas: Landscape Characterization and Restoration (LCR), Integration and Development (I&D), Outreach, Coastal Remote Sensing (CRS), and the Director's Office (DO). This announcement provides guidelines for these program areas and includes details for the technical program, evaluation criteria, and selection procedures of each program. Selected recipients will enter into either a cooperative agreement with the Center or receive a grant depending upon the amount of the Center's involvement in the project. Substantial involvement means a cooperative agreement, while independent work requires a grant.

All applicants are required to submit a NOAA grants application package and project proposal. The standard NOAA grants application package (which includes forms SF-424, SF-424A, SF-424B, CD-511, CD-512, and SF-LLL) can be obtained from the NOAA grants Website at http://www.rdc.noaa.gov/~grants/pdf/. Funding will be subject to the availability of federal appropriations. Applicants are required to prepare separate packages for each proposal submitted.

Authority

Statutory authority for these programs is provided under 16 U.S.C. Sec. 1456c (Technical Assistance); 15 U.S.C. Sec. 1540 (Cooperative Agreements); 33 U.S.C. Sec. 1442 (research program respecting possible long-range effects of pollution, over fishing, and man-induced changes of ocean ecosystems); 33 U.S.C. Sec. 883a (surveys and other activities); 33 U.S.C. Sec. 883b (dissemination of data); 33 U.S.C. Sec. 883c (geomagnetic data collection, correlation, and dissemination); and 33 U.S.C. Sec. 883d (improvement of methods, instruments, and equipments; investigations and research).

General Background

Guiding the conservation and management of coastal resources is a primary function of NOAA. NOAA accomplishes this goal through a variety of mechanisms, including collaboration with the coastal resource management programs of the nation's states and territories. The mission of the NOAA Coastal Services Center is to foster and sustain the environmental and economic well being of the coast by linking people, information, and technology. The goal of the Center is to build capabilities throughout the nation to address pressing issues of coastal health and change by promoting coastal resource conservation and efficient and sustainable commercial and residential development.

Landscape Characterization and Restoration (LCR)—Information Resource for a United States Watershed in the Great Lakes Drainage Basin

Project Description

The Center seeks proposals for a 2-year cooperative agreement under which a cooperator and the Center will jointly develop a digital information resource for a watershed, group of watersheds, island system, or management area within the drainage basin of the Great Lakes, and located entirely or in part within the states of Minnesota, Wisconsin, Illinois, Indiana, Michigan, Ohio, Pennsylvania, and New York. The information resource must focus on one or more resource management needs of the chosen watersheds, island system, or management area and emphasize examinations of ecosystem function through the integration of physical, ecological, and socioeconomic analyses. The cooperator will choose the management needs that will be focused on, for example, a regional habitat restoration plan, non-point source pollution management plan, long-term dredged material management plan, species recovery plan, or detailed environmental description. The information resource must clearly help managers make resource management, regulatory, or land-use planning decisions. Total anticipated funding is $270,000 over two years and is subject to the availability of FY 2002 and FY 2003 appropriations. Only one award is anticipated from this announcement.

Background

This announcement is a call for proposals for work under the Center's Landscape Characterization and Restoration Program. The program's goal is to help Federal, state, and local resource managers include ecosystem processes in their resource management, regulatory, and land-use planning decisions. The program and program partners will work towards this goal by examining interrelationships among ecological, land use, human demographic, and socioeconomic trends in subject watersheds and by developing tools needed to reflect those relationships in the development of management practices.

The program's principal products are environmental characterizations of watersheds that integrate the ecological, geophysical, and socioeconomic information that is needed to address the management issues identified by cooperators. Final products are in a digital format and distributed via CD-ROM and the Internet and include a spatial database, a customized Geographic Information System interface, and a narrative that provides a detailed overview of the focal management issues, how the accompanying information was used to examine potential solutions, and how the overall product can be used in future examinations. The program and its cooperators are currently working on, or have completed, characterizations of Otter Island (South Carolina), the ACE Basin (South Carolina), Kachemak Bay (Alaska), Rookery Bay/Belle Meade (Florida), coastal Rhode Island, and the central California coast. Overviews of the program and these projects are available through the Internet at http://www.csc.noaa.gov/lcr/.

Roles and Responsibilities

By working in a cooperative partnership, the unique skills, capabilities, and experiences of the Center and the cooperator will be combined to offer an opportunity for each organization to further its goals. In their proposals, potential cooperators shall explicitly propose the respective roles and responsibilities of the Center and the cooperator.

General areas of responsibilities that the Center has had in past projects include: Development of spatial models, analyses, and data to address the identified management issues; design of GIS and HTML architectures; and compilation of final products onto a CD-ROM and Internet site. Any questions about appropriate roles for the Center can be directed to Jeffery.Adkins@noaa.gov.

General areas of responsibility that cooperators have had include: Identifying the management issues that guide development of the information resource; identifying the information needed to address the issues; developing partnerships with other members of the resource management community; developing and collecting the information (text, tables, graphics, charts, and maps) and tools (organizational structure and models) needed to address the management issues; developing metadata; and determining how the products should be organized to maximize usefulness within the resource management community.

Project Proposals

The applicant must submit one original and two copies of the proposal(s) by 5 p.m. (Eastern time) on January 11, 2002. In addition to the proposal(s), the applicant must submit a complete NOAA grants application package (with signed originals). No e-mail or fax copies will be accepted. All project proposals must total no more than 10 pages (double spaced, 12-point font, and exclusive of appendices). Appendices should be limited to materials that directly support the main body of the proposal; e.g., support letters, resumes, lists of data sources, maps. All appendix material must be unbound. All proposals must include sections on the seven following topics:

1. Goal, Objective(s), and Geographic Area. Identify on a map and describe in the narrative the specific geographic area that will be examined. Identify the specific management objective(s) of the project, describing:

• The management goals that are currently not being achieved,

• How products from this cooperative agreement will significantly address that deficiency, and

• The benefits that will result to the cooperators, partners, public, and resource management community.

2. Background/Introduction. Provide sufficient background information for reviewers to independently assess the local significance and regional importance of the management objectives that will be addressed by the project. Summarize the status of any ongoing efforts by the cooperator and partners to address these objectives.

3. Audience. Identify potential users of the product, how those users will incorporate the product in their management of natural resources, and identify any training that will be needed for users to make full use of the information resource.

4. Project Description/Methodology. Provide a general work plan that:

• Divides the project into discrete steps,

• Identifies critical decision points,

• Discusses any obstacles to completing the project that may require special planning, and

• Explicitly outlines the respective roles of the cooperator, partners, and Center.

One of the initial tasks of the cooperative agreement will be for the Center and the cooperator to prepare a detailed task plan that explains how the resources of all parties will be leveraged to produce the products. The work plan requested for this part of the proposal should demonstrate that the cooperator and partners have sufficient local knowledge of the management problems to lead a innovative effort directed towards developing appropriate solutions.

5. Project Partners and Support. Identify project partners and describe their respective roles. When formal partnerships already exist, include letters from partners that demonstrate that they understand their role in the project and the authority of the lead agency in product development, and that they are willing to participate in that manner. When formal partnerships do not already exist, describe plans for developing them. Describe the resources the cooperators and partners have for conducting the project, including personnel qualifications (education, experience, and time available to work on the project), facilities, equipment, and, to the extent practicable, the information and tools already available. Describe how widely the project is supported within the resource management community and offer evidence of that support.

6. Milestone Schedule. List target milestones, time lines, and describe how each milestone addresses project objectives.

7. Project Budget. Provide a detailed budget description that follows the categories and formats in the NOAA grants package and a brief narrative justification of the budget. Evaluation Criteria (with weights) and Selection Process

Review panels, composed of two NOAA and at least two non-NOAA reviewers, will be established to assist in the evaluation of the proposals. Each member of the review panel will review independently each proposal using the evaluation criteria. The reviewers will not provide consensus advice. All proposals received will be ranked according to score and the selecting official (Center Director) will use those scores when he/she makes the final decision. The selecting official also may consider program policy factors in the final decision to ensure Center projects are balanced geographically and institutionally. Evaluation criteria are:

1. Significance (20 points). How well the proposal demonstrates the local significance and regional importance of the issues(s) or management objective(s) that will guide development of the information resource. At a minimum, the proposal must identify management goals that currently are not being achieved, describe how products from this cooperative agreement will significantly address that deficiency, and state the benefits that will result to the public and resource management community.

2. Technical Approach (20 points). How well the proposal divides the project into discrete tasks that make effective use of the technical capabilities of the cooperator, partner(s), and Center. This criteria includes such factors as the technical merit of the process that the cooperator has outlined for developing the information resource and the perceived role for the Center in its development.

3. Comprehensiveness (20 points). How well the proposed work will integrate technology; socioeconomic, physical, and ecological information; and public participation to accomplish project goals and objectives. This criteria measures both the scope of the proposed project and the integration of its various components.

4. Outcomes (20 points). How well the applicant demonstrates that the project outcomes will significantly address the management issue(s) targeted by the project and that the collective resources of the applicant and partners will ensure projected outcomes are met.

5. Partnerships and Public Involvement (10 points). How well the proposal demonstrates through partnerships that the project is broadly supported by the resource management community; that a broad group of resource managers and constituents will benefit from the product(s) and contribute to their design and assembly; and that a broad group of resource managers will use the product(s). This criteria includes such factors as the inclusion of a formal public involvement plan, a plan for managing the partnership team, and letters of support from users and partners.

6. Cost Efficiency (10 points). How well the applicant demonstrates that the budget is commensurate with project needs and that the partnerships employed will improve the overall cost effectiveness of the project and value of the products by contributing funds (cost-sharing), expertise, or other resources.

Selection Schedule

Proposals will be reviewed once during the year. The following schedule lists the dates for the project selection and award process for cooperative agreements: Proposal Deadline (with completed grant package)—January 11, 2002. Earliest Approximate Grant start date—August 1, 2002. Note: All deadlines are for receipt by close of business (5 p.m. Eastern time) on the dates identified. Receipt of proposal and grant package (with original signatures) will be time stamped.

Funding Availability

Specific funding available for awards will be finalized after NOAA funds for FY 2002 are appropriated. Total funding available for this cooperative agreement with the LCR program is anticipated to be $270,000 over 2 years. One award is anticipated from this announcement. Publication of this document does not obligate NOAA to fund any specific cooperative agreement or to award all or any part of the available funds.

Cost Sharing

There is no requirement for cost sharing in response to these guidelines, however, proposals that include cost sharing will likely score highly under evaluation criteria that examines cost efficiency.

Eligibility Criteria

Eligible applicants are institutions of higher educations, hospitals, other non-profits, commercial organizations, foreign governments, organizations under the jurisdiction of foreign governments, international organizations, and state, local and Indian tribal governments. Federal agencies or institutions are not eligible to receive Federal assistance under this announcement, but may be project partners. Note: Federal agencies or institutions who are project partners must demonstrate that they have legal authority to receive funds from another Federal agency in excess of their appropriation. Because this announcement is not proposing to procure goods or services from applicants, the Economy Act (31 U.S.C. 1535) is not an appropriate legal basis.

Authority

Statutory authority for these programs is provided under 16 U.S.C. 1456c (Technical Assistance); and 33 U.S.C. 1442 (research program respecting possible long-range effects of pollution, overfishing, and man-induced changes of ocean ecosystems).

Integration and Development (I&D)—Bathymetric Data Collection

Project Description

The Center seeks cooperative agreement proposals for projects that conduct new acquisition and supporting documentation of bathymetric data. The intent of this program is to support high quality hydrographic digital data collection efforts for public resource management needs. The collection efforts may also support current NOAA NOS nautical chart data collection programs. It is expected that this funding will support agencies who are already considering hydrographic surveys for beach renourishment projects, sand and sediment transport studies, fisheries management plans, benthic habitat evaluations, dredging, and dredge disposal siting projects, and other related projects.

A major objective of this program is to rescue, document, and make available bathymetric data for marine applications. The Center desires data from the area (on-shore) of tidal influence out to the Exclusive Economic Zone. Maximum anticipated funding for Fiscal Year 2002 is $150,000 and it is intended that this funding will be distributed amongst multiple projects in the form of a cooperative agreement. The award level is contingent on methodology, the level of detail, and the geographic scope of the project. See evaluation criteria for more information about how proposals will be ranked.

Roles and Responsibilities

By working in a cooperative partnership, the unique skills, capabilities, and experiences of the Center and the cooperator will be combined to offer an opportunity for each organization to further its goals. In their proposals, potential cooperators shall explicitly propose the respective roles and responsibilities of the Center and the cooperator. General areas of responsibilities that the Center has had in past projects include: development of spatial models, analyses, and data to address the identified management issues; design of geographic information systems (GIS) and HTML architectures; and compilation of final products onto a CD-ROM and Internet site. Any questions about appropriate roles for the Center can be directed to James.L.Free@noaa.gov.

General areas of responsibility that cooperators have had in the past have included the following: identifying the management issues that guide development of the information resource; identifying the information needed to address the issues; developing partnerships with other members of the coastal management community; developing and collecting the information (text, tables, graphics, charts, and maps) and tools (organizational structure and models) needed to address the management issues; developing metadata; and determining how the products should be organized to maximize usefulness within the coastal management community.

Background

To support safe navigation, hydrographic surveys are conducted to produce nautical charts. For safety reasons, these surveys are conducted using strict hydrographic survey procedures (refer to the following Uniform Resource Locator for more information about these procedures): http://chartmaker.ncd.noaa.gov/ocs/text/prodserv.htm.

In addition to its intended charting purpose, hydrographic survey data is very useful to the coastal and ocean resource management community in the production of bathymetry. Hydrographic survey data is preferable because these survey requirements need not be as rigorous as navigation surveys that protect life and limb. Supporting this community is an additional mandate of NOS under its coastal stewardship strategic goal. Due to financial constraints, NOS has only been able to commit to new surveys in major commercial shipping areas. Near shore and estuarine areas are not generally deemed to be a navigational hazard and therefore are not routinely surveyed. Many of these areas are of interest to the coastal resource managers for projects related to dredging, dredge disposal, habitat studies, sediment transport, and beach renourishment projects.

NOAA is interested in supplementing its current hydrographic survey data collection with data from non-NOAA sources to meet strategic goals. In addition, NOAA is interested in helping non-NOAA sources acquire data using standards and documentation that will increase the usability and longevity of the data. NOAA is committed to helping third-party data creators document and make these data available to the marine community using standards and protocols outlined by the Federal Geographic Data Committee (FGDC). Specifically, NOAA is interested in helping foster the development of high quality accurate digital bathymetric data to use in desktop GIS for coastal and ocean resource management and to update nautical charts.

Project Proposals

The applicant must submit one original and two copies of the proposal(s) by 5 p.m. (Eastern time) on January 11, 2002. In addition to proposal(s), the applicant must submit a complete NOAA grants application package (with signed originals). No e-mail or fax copies will be accepted. All project proposals must total no more than 10 pages (double spaced, 12-point font, and exclusive of appendices). Appendices should be limited to materials that directly support the main body of the proposal; e.g., support letters, resumes, lists of data sources, maps. All appendix material must be unbound. All projects proposals must include, at a minimum, sections on the five following topics:

1. Project Background/Introduction. Briefly discuss the critical coastal management issues, data needed to address these issues, and how the proposed activity will support high quality hydrographic digital data collection efforts for public resource management needs.

2. Project Description/Methodology. Address the general work plan and deliverables. Methodology should address specific methods of data collection and documentation that as a minimum include the methods of sounding, methods of correcting for motion of the survey platform, methods of horizontal positioning, and methods of corrections for tide. In addition, proposals should include limits of survey area and density of line spacing and sounding interval. Proposals should include a section of chart that outlines the survey area and orientation to the depth contour. Database format must be adequately described and include a supplemental descriptor file or metadata that contains the information necessary for completing an FGDC-compliant metadata record for the survey.

3. Project Partners and Subcontractors. Identify any project partners and describe their respective roles. Include a letter from partners and subcontractors acknowledging their participation and area of responsibility, and include a breakdown of budgets related to project work.

4. Milestone Schedule. List target milestones and their respective time lines.

5. Project Budget. Proposals should provide a detailed budget breakdown that follows the categories and formats in the NOAA grants package and a brief narrative that justifies each item.

Evaluation Criteria (With Weights) and Selection Process

Review panels, composed of two NOAA and two non-NOAA experts in the field of hydrographic survey methodology, tidal correction, and spatial data acquisition will be established to assist in the evaluation of the proposal(s). Each member of the review panel will review independently each proposal using the evaluation criteria. The reviewers will not provide consesus advice. All proposals received will be ranked according to score and the selecting official (Center Director) will use those scores to when she/he makes the final decision. The selecting official may also consider program policy factors in the final decision to ensure Center projects are balanced geographically and institutionally. Evaluation criteria are:

1. Technical Merit (65 points). Proposals will be judged on the adequacy of the methodology used to collect the data. This includes the corrections for vessel motion (heave, roll and pitch), equipment used, and method of sounding, and corrections for tide. It is expected that differential Global Positioning System (GPS) will be used as the method of horizontal positioning, but this should be specifically addressed. Though not required, any corrections for sound velocity (in shallow water) or settlement and squat could positively influence this weighting.

2. Data Density, Geographic Scope, and Orientation (10 points). This weighting will be based on the level of detail of the survey. Project descriptions should include a map or graphic that outlines the intended spatial extent of the survey, the density of the line spacing or number of soundings, and the orientation of the survey platform to the depth contour.

3. Data Delivery Mechanism and Documentation (10 points). Projects will be judged on adequacy of the database schema and documentation of the delivered data, and the coherency of the metadata strategy.

4. Theme (10 points). Projects will be judged on the applicability of the purpose or theme of the survey to one of the objectives of the Center, particularity the goal to foster improved bathymetric data access for the coastal and ocean resource community, and to coastal or ocean resource management.

5. Cost-Sharing (5 points). Points will be awarded in proportion to the amount of cost sharing proposed. Applicant will have to cost share at least 10 percent to receive 1 point, 20 percent to receive 2 points, 30 percent to receive 3 points, 40 percent to receive 4 points, and 50 percent to receive 5 points.

Selection Schedule

Proposals will be reviewed once during the year. The following schedule lists the dates for the project selection and award process for grants and/or cooperative agreements: Proposal Deadline (with completed grant package)—January 11, 2002. Earliest Approximate Grant Start Date—August 1, 2002. Note: All deadlines are for receipt by close of business (5 p.m. Eastern time) on the dates identified. Receipt of proposal and grant package (with original signatures) will be time stamped. E-mail or fax copies will not be accepted.

Funding Availability

Specific funding available for awards will be finalized after NOAA funds for Fiscal Year 2002 are appropriated. Total funding available for this cooperative agreement with the Integration and Development program is anticipated to be no more than $150,000 and funding will be distributed over multiple projects. Publication of this notice does not obligate NOAA to fund any specific cooperative agreement or to award all or any part of the available funds.

Cost Sharing

See Evaluation Criteria #5.

Eligibility Criteria

Eligible applicants are institutions of higher education, non-profits, foreign governments, organizations under the jurisdiction of foreign governments, international organizations, and state, local, and Indian tribal governments. Commercial organizations that have a formal collaborative partnership with a state or local resource coastal management office are encouraged to apply. Federal agencies or institutions are not eligible to receive Federal assistance under this notice, but may be project partners. Note: Federal agencies or institutions who are project partners must demonstrate that they have legal authority to receive funds from another federal agency in excess of their appropriation. Because this announcement is not proposing to procure goods or services from applicants, the Economy Act (31 U.S.C. 1535) is not an appropriate legal basis.

Authority

Statutory authority for these programs is 33 U.S.C. 883a (surveys and other activities) and 33 U.S.C. 883c (geomagnetic data; collection, correlation, and dissemination).

Integration and Development (I&D)—New Data Models for Marine Conservation

Project Description

The Center seeks cooperative agreement proposals for the development of a digital spatial data model to examine bathymetry and its use in marine resource conservation and management. The intent of this program is to support the research and development of high quality and innovative spatial data models utilizing existing and/or new bathyemtric data sources to supplement current marine conservation efforts.

A major objective of this program is to develop, document, and make available new data models utilizing bathymetry for the marine conservation and coastal resource management communities. This program requires an on-site application of the new model(s) toward a real-world marine conservation/management issue. The geographic scope of this program is not defined, but the on-site application should be within the U.S. or U.S. Territories.

Roles and Responsibilities

By working in a cooperative partnership, the unique skills, capabilities, and experiences of the Center and the cooperator will be combined to offer an opportunity for each organization to further its goals. In their proposals, potential cooperators shall explicitly propose the respective roles and responsibilities of the Center and the cooperator. Any questions about appropriate roles for the Center can be directed to James.L.Free@noaa.gov.

Background

The data model(s) resulting from this work would advance several of NOAA's environmental stewardship goals, including building sustainable fisheries, protecting and managing key species, and sustaining healthy coasts. In particular, new data model(s) utilizing bathymetry for marine conservation would assist coastal states and federal government efforts to help foster and sustain marine habitat. The Center is actively engaged in narrowing the gap between the science and management communities and is in need of high quality models to support existing activities in habitat characterization, benthic mapping, resource management, and spatial tool development for the coastal management community. The spatial data model(s) resulting from this program should complement the Center's activities and advance marine conservation efforts.

The marine conservation community is in need of tools, data models, and applications for protecting marine habitat. Insufficient scientific information, inadequate information transfer, and fragmented decision making are several of the most significant impediments to marine conservation. Science-based technological advances, combined with education and proper planning, eliminate many of these obstacles. Models properly utilizing bathymetry will likely eliminate these obstacles, as it is one of the most important physical data layers when addressing marine conservation issues. Depth, slope, aspect, and several other bathymetric derivatives are important variables in modeling species distribution, species preference, habitat connectivity, and impacts of habitat fragmentation and loss. A spatial bathymetric data model integrated with marine habitat characterizations will significantly aid marine conservation professionals and the coastal management community in protecting the nations valued marine resources.

Project Proposals

The applicant must submit one original and two copies of the proposal(s) by 5 p.m. (Eastern time) on January 11, 2002. In addition to the proposal(s), the applicant must submit a complete NOAA grants application package (with signed originals). No e-mail or fax copies will be accepted. All project proposals must total no more than 10 pages (double spaced, 12-point font, and exclusive of appendices). Appendices should be limited to materials that directly support the main body of the proposal; e.g., support letters, resumes, lists of data sources, maps. All appendix material must be unbound. All projects proposals must include, at a minimum, sections on the five following topics:

1. Project Background/Introduction. Briefly discuss the critical coastal management issues, data needed to address these issues, and how the proposed activity will promote and enhance marine conservation efforts.

2. Project Description/Methodology. Address the general work plan and deliverables. Methodology should address specific methods of developing a spatial data model for examining bathymetry and its nexus to marine resource conservation and management. Proposals should address methods of quality control to help ensure accurate modeling.

3. Project Partners and Subcontractors. Identify any project partners and describe their respective roles. Include a letter from partners and subcontractors acknowledging their participation and area of responsibility.

4. Milestone Schedule. List target milestones and their respective time lines.

5. Project Budget. Provide a detailed budget breakdown that follows the categories and formats in the NOAA grants package and a brief narrative that justifies each item.

Evaluation Criteria and Selection Process

Review panels composed of two NOAA and two non-NOAA experts in the field of hydrographic survey methodology and spatial data acquisition and modeling will be established to assist in the evaluation of the proposals. Each member of the review panel will review independently each proposal using the evaluation criteria. The reviewers will not provide consensus advice. All proposals received will be ranked according to score and the selecting official (Center Director) will use those scores when he/she makes the final decision. The selecting official may also consider program policy factors in the final decision to ensure Center projects are balanced geographically and institutionally. Evaluation criteria are:

1. Technical Merit (45 points). Proposals will be judged on the methodology used to develop new data models for marine conservation. Though not required, model proposals which incorporate techniques of Global Positioning System technology could be given additional points.

2. Model Application (30 points). This weighting will be based on the level of detail and applicability of the digital spatial data model. Project descriptions should include a map or graphic that outlines the intended spatial extent of the model. Proposals should specifically address how digital data models relate to a real-world marine conservation/management issue.

3. Data Delivery Mechanism and Documentation (10 points). Projects will be judged on the adequacy of database schema and documentation of the delivered data, and the coherency of the metadata strategy.

4. Theme (10 points). Projects will be judged in the applicability of the purpose or theme of the proposal to one of the objectives of the Center, specifically the goal to help foster and sustain marine habitat, and to an existing marine conservation/management issue.

5. Cost-Sharing (5 points). Points will be awarded in proportion to the amount of cost sharing proposed. Applicant will have to cost share at least 10 percent to receive 1 point, 20 percent to receive 2 points, 30 percent to receive 3 points, 40 percent to receive 4 points, and 50 percent to receive 5 points.

Selection Schedule

Proposals will be reviewed once during the year. The following schedule lists the dates for the project selection and award process for cooperative agreements:

Proposal Deadline (with completed grant package)—January 11, 2002. Earliest Approximate Grant Start Date—August 1, 2002. Note: All deadlines are for receipt by close of business (5 p.m. Eastern time) on the dates identified. Receipt of proposal and grant package (with original signatures) will be time stamped.

Funding Availability

Specific funding available for awards will be finalized after NOAA funds for Fiscal Year 2002 are appropriated. Total funding available for this cooperative agreement with the Integration and Development program is anticipated to be no more than $150,000 and funding will be distributed over multiple projects. Publication of this notice does not obligate NOAA to fund any specific cooperative agreement or to award all or any part of the available funds.

Cost Sharing

See Evaluation Criteria #5.

Eligibility Criteria

Eligible applicants are institutions of higher education, non-profits, international organizations, and state, local, and Indian tribal governments. Commercial organizations that have a formal collaborative partnership with a state or local resource coastal management office are encouraged to apply. Federal agencies or institutions are not eligible to receive Federal assistance under this notice, but may be project partners.

Note: Federal agencies or institutions who are project partners must demonstrate that they have legal authority to receive funds from another federal agency in excess of their appropriation. Because this announcement is not proposing to procure goods or services from applicants, the Economy Act (31 U.S.C. 1535) is not an appropriate legal basis.

Authority

Statutory authority for these programs is 33 U.S.C. Sec. 883d (improvement of methods, instruments, and equipments; investigations and research).

Integration and Development—Permitting

Project Description

The Center seeks cooperative agreement proposals for the development of spatially enabled coastal and estuarine related permitting systems. The intent of this program is to increase the integration and application of spatial data in coastal permitting processes and to enhance communication between state and local governmental entities, local communities, and the public. It is expected that the funding will support research and development of integrated geographic information systems (GIS), decision support tools, and spatial data bases that support initial efforts of coastal states to upgrade existing non-spatially enabled permitting processes.

Maximum anticipated funding for Fiscal Year 2002 is $150,000 and it is intended that this funding will be distributed amongst multiple cooperative agreement projects. The award level is contingent on methodology, the level of detail, and the geographic scope of the project. See evaluation criteria for more information about how proposals will be ranked.

Roles and Responsibilities

General types of responsibility that cooperators have had in the past have included the following: Identifying the management issues that guide development of the information resource; identifying the information needed to address the issues; developing partnerships with coastal management communities/organizations; developing and collecting the information (text, tables, graphics, charts, and maps) and tools (organizational structure and models) needed to address the management issues; data collection and development; metadata; and determining how products should be organized to maximize usefulness within the coastal management community.

By working in a cooperative partnership, the unique skills, capabilities, and experiences of the Center and the cooperator will be combined to offer an opportunity for each organization to further its goals. In their proposals, potential cooperators shall explicitly propose the respective roles and responsibilities of the Center and the cooperator. General areas of responsibility that the Center has had in past projects include: Development of spatial models and analyses to address the identified management issues; design of GIS and HTML architectures; and compilation of final products onto a CD-ROM or an Internet site. Any questions about appropriate roles for the Center can be directed to James.L.Free@noaa.gov.

Background

Under the NOAA/NOS strategic efforts to sustain healthy coasts and provide a coastal stewardship ethic, the Center works with state and local coastal resource managers to facilitate the development of strategies that enhance the management of coastal resources, anticipate and mitigate coastal hazards, and develop the use of technology (specifically GIS) in problem solving.

In recent customer surveys and discussions with the Center's primary clients, the issue of permitting frequently arises. The need for more integrated spatially enabled approaches to coastal permit processes has become clear. In order to address this need, the Center is requesting proposals for research and development of new projects for the development of a spatially enabled permitting system for coastal and estuarine areas in U.S. coastal states and territories.

Project Proposals

The applicant must submit one original and two copies of the proposal(s) by 5 p.m. (Eastern time) on January 11, 2002. In addition to the proposal, the applicant must submit a complete NOAA grants application package (with signed originals). No e-mail or fax copies will be accepted. All project proposals must total no more than 10 pages (double spaced, 12-point font, exclusive of appendices). Appendices should be limited to materials that directly support the main body of the proposal, e.g., support letters, resumes, lists of data sources, and maps. All appendix material must be unbound. All projects proposals must include, at a minimum, sections on the following five topics:

1. Project Background/Introduction. Describe the current state of permitting processes in the target agency or area of interest. Briefly discuss the critical coastal management issues, data needed to address these issues, and how the proposed activity will contribute to the overall improvement of the permitting systems currently in place.

2. Project Description/Methodology. Address the general work plan and deliverables. Provide a general work plan that divides the project into discrete steps, identifies critical decision points, and discusses any obstacles to completing the project that may require special planning, and explicitly outlines the respective roles of all groups or agencies involved. The work plan requested for this part of the proposal should demonstrate that there is sufficient local knowledge of the management issues and permitting processes to lead an innovative effort directed towards developing appropriate solutions.

3. Project Partners and Subcontractors. Identify any project partners and describe their respective roles. Include a letter from partners and subcontractors acknowledging their participation and area of responsibility, and include a breakdown of budgets related to project work.

4. Milestone Schedule. List target milestones and their respective time lines.

5. Project Budget. Provide a detailed budget breakdown that follows the categories and formats in the NOAA grants package and a brief narrative that justifies each item.

Evaluation Criteria (With Weights) and Selection Process

Review panels, composed of two NOAA and at least two non-NOAA reviewers will be established to assist in the evaluation of proposals. Each member of the review panel will review independently each proposal using the evaluation criteria. The reviewers will not provide consensus advice. All proposals will be ranked according to score and the selecting official (Center Director) will use those scores when she/he makes the final decision. The selecting official may also consider program policy factors in the final decision to ensure Center projects are balanced geographically and institutionally. Evaluation criteria are:

1. Significance (20 points). How well the proposal demonstrates the local significance and regional importance of the issue(s) or management objective(s) that will guide development of the project. At a minimum, the proposal must identify management goals that currently are not being achieved, describe how products from this project will significantly address that deficiency, and state the benefits that will result to the public and coastal management community.

2. Technical Approach (25 points). How well the proposal divides the project into discrete tasks that make effective use of the technical capabilities of the organizations involved.

3. Innovation (25 points). How well the proposed work takes an innovative approach to the application and integration of technology, spatial data, policy, issues to accomplish project goals and objectives.

4. Outcomes (10 points). How well the applicant demonstrates that the project outcomes will significantly address the management issue(s) targeted by the project and that the collective resources of the applicant and partners will ensure projected outcomes are met.

5. Partnerships (10 points). How well the proposal demonstrates: that the project is broadly supported by the coastal management community; that a broad group of coastal managers and constituent will benefit from contributing to design and assembly of product(s); and that a broad group of coastal managers will use the product(s).

6. Cost Efficiency (10 points). Points will be awarded in proportion to the amount of cost sharing proposed. Applicant will have to cost share at least 10 percent to receive 1 point, 20 percent to receive 2 points, 30 percent to receive 3 points, 40 percent to receive 4 points, and 50 percent to receive 5 points.

Selection Schedule

Proposals will be reviewed once during the year. The following schedule lists the dates for the project selection and award process for cooperative agreements: Proposal Deadline (with completed cooperative agreement package) is January 11, 2002. Earliest Approximate cooperative agreement Start Date—August 1, 2002. Note: All deadlines are for receipt by close of business (5 p.m. Eastern time) on the dates identified. Receipt of proposal and application package (with original signatures) will be time stamped.

Funding Availability

Specific funding available for awards will be finalized after NOAA funds for Fiscal Year 2002 are appropriated. Total funding available for this cooperative agreement with the Center's Integration and Development program is anticipated to be no more than $150,000 and funding will be distributed over multiple projects. Publication of this notice does not obligate NOAA to fund any specific cooperative agreement or to award all or any part of the available funds.

Cost Sharing

See Evaluation Criteria #6.

Eligibility Criteria

Eligible applicants are institutions of higher education, state, local, and Indian tribal governments. Federal agencies or institutions are not eligible to receive Federal assistance under this notice, but may be project partners. Note: Federal agencies or institutions who are project partners must demonstrate that they have legal authority to receive funds from another federal agency in excess of their appropriation. Because this announcement is not proposing to procure goods or services from applicants, the Economy Act (31 U.S.C. 1535) is not an appropriate legal basis.

Authority

Statutory authority for these programs is provided under 16 U.S.C. 1456c (Technical Assistance).

Outreach—Coastal Program Coordination and Development

Project Description

The Center is seeking proposals for a two-year cooperative agreement with an option to renew for two years, to provide coastal program coordination and development support. Project proposals are due January 11, 2002, (with earliest start date of August 1, 2002). See Selection Schedule following.

Background

The Center strives to link people, information and technology. As such, the Center often serves as a liaison function between various NOAA offices and state and local partners to facilitate the use of scientific and technical information that supports the sustainable management of coastal resources. It is in this capacity that the Center is requesting proposals to work with a cooperator on issues related to: (1) Strategic planning and implementation; (2) policy and program analyses of coastal resource management issues; (3) management assistance; (4) integration of human element into coastal management products and activities; and (5) short-term research on specific topics related to natural resource management and conservation.

Roles and Responsibilities

By working in a cooperative partnership, the unique skills, capabilities, and experiences of the Center and the cooperator will be combined to offer an opportunity for each organization to further its goals. In their proposals, potential cooperators shall explicitly propose the respective roles and responsibilities of the Center and the cooperator.

General areas of responsibility that the Center has had in the past include: providing a mentoring and professional development framework for recent coastal management or marine affairs graduates within the context of the national and/or regional activities of the Center; publicizing the program, and soliciting other partners.

General areas of responsibility that cooperators have included the following: working with the Center to identify specific projects; helping identify future emerging policy and/or thematic areas; identifying recent graduates with interest in continuing their professional development through work with the Center; publicizing the program; and soliciting other partners.

Project Proposals

The Applicant must submit one original and two copies of the proposal(s) by 5 p.m. (Eastern time) on January 11, 2002. In addition to the proposal, the applicant must submit a complete NOAA grants application package (with signed originals). No e-mail or fax copies will be accepted. All project proposals must total no more than 10 pages (double spaced, 12-point font, and exclusive of appendices). Appendices should be limited to materials that directly support the main body of the proposal; e.g., support letters, resumes, lists of data sources, maps. All appendix material must be unbound. All projects proposals must include sections on the following seven topics listed below:

1. Goals and Objectives. Identify broad project goals and quantifiable objectives.

2. Background/Introduction. State the issues and summarize existing efforts at all levels.

3. Audience. Describe specifics of how the relationship will contribute to improving or resolving an issue with the primary target audience. The target audience must be explicitly stated.

4. Project Description/Methodology. Describe the specifics of the project (3 page maximum). One of the initial tasks of the cooperative agreement will be for the Center and the cooperator to prepare a detailed task plan that explains how the resources of all parties will be leveraged to address the issues.

5. Project Partners. Identify project partners and their respective roles.

6. Milestones and Outcomes. List target milestones, time lines, and desired outcomes in terms of products and services.

7. Project Budget. Provide a detailed budget breakdown that follows the categories and formats in the NOAA grant package and a brief narrative that justifies each item. Applicants are required to submit in their proposal a budget for year 1 and for year 2.

Evaluation Criteria (With Weights) and Selection Process

Review panels, composed of two NOAA and at least two non-NOAA reviewers will be established, to assist in the evaluation of the proposals. Each member of the review panel will review independently each proposal using the evaluation criteria. The reviewers will not provide consensus advice. All proposals received will be ranked according to score and the selecting official (Center Director) will use those scores when she/he makes the final decision. The selecting official also may consider program policy factors in the final decision to ensure Center projects are balanced geographically and institutionally. Evaluation criteria are:

1. Management Relevance (30 points)

• How well does the proposed project (directly or indirectly) address a critical national, regional, state, or local management need relating directly to growth management of coastal areas or human use of coastal resources?

• How well does the project involve partnerships with the state coastal management agency, National Estuarine Research Reserve, and/or National Marine Sanctuary?

• How clearly does the proposed project define the management audience?

2. Technical Merit (35 points)

• How technically sound is the approach?

• How well does the proposed project build on existing knowledge?

• How clear and concise are the project goals and objectives?

• How well does the proposed project provide for long-term maintenance or sustainability of products and services?

• How innovative is the approach?

3. Applicability and Effectiveness of Products and their Delivery (25 points)

• How well does the proposed project produce useful (and easily used) services, or an understanding for the target audience and users?

• How likely is the project time line and project design to be flexible and responsive to public and user input?

• Is an evaluation process built into the project? How appropriate is it?

4. Efficiency and Overall Qualifications (10 points)

• How is the budget commensurate with the project needs?

• How capable are the proposer's of conducting a project of the scope and scale proposed? (i.e., Are there adequate professional, facility, and administrative capabilities?)

Selection Schedule

Proposals will be reviewed once during the year. The following schedule lists the dates for the project selection and award process for cooperative agreements: Proposal Deadline (with completed grant package) January 11, 2002. Earliest Appropriate Grant Start Date—August 1, 2002 Note: All deadlines are for receipt by close of business (5 p.m. Eastern time) on the dates identified. Receipt of proposal and grant package (with original signatures) will be time stamped. E-mail or fax copies will not be accepted. One original and two copies of the proposal and grant paperwork are required.

Funding Availability

Specific funding available for the award will be finalized after NOAA funds for FY 2002 are appropriated. Publication of this document does not obligate NOAA to fund any specific cooperative agreement or to award all or any part of the available funds. Anticipated funding in FY 2002 will be between $75,000 and $200,000 for year 1 (depending on the availability of funds through the federal appropriation process.

Cost Sharing

There is no requirement for cost sharing in response to this program announcement and no additional weight will be given to proposals with cost sharing.

Eligibility Criteria

Eligible applicants are institutions of higher educations, hospitals, other non-profits, commercial organizations, foreign governments, organizations under the jurisdiction of foreign governments, international organizations, and state, local and Indian tribal governments. Federal agencies or institutions are not eligible to receive Federal assistance under this announcement, but may be project partners.Note: Federal agencies or institutions who are project partners must demonstrate that they have legal authority to receive funds from another Federal agency in excess of their appropriation. Because this announcement is not proposing to procure goods or services from applicants, the Economy Act (31 U.S.C. 1535) is not an appropriate legal basis.

Authority

Statutory Authority for these programs is provided under 16 U.S.C. 1456C (Technical Assistance).

Outreach—Special Projects

Project Description

The Center seeks proposals for special technical, management, or planning projects that relate to growth management in coastal areas or human use of coastal resources. Project proposals are due January 11, 2002, (with earliest start date of August 1, 2002). See Selection Schedule.

In FY 2002, the Center expects to award grants and cooperative agreements (for those projects with substantial Center involvement) to organizations across the United States with proven abilities to implement practical solutions at a state and local level. Proposed study topics must relate to growth management in coastal areas or to human use of coastal resources. All project proposals received that meet the topic criteria will be reviewed for technical merit and management relevance.

Background

The Center conducts a variety of projects that directly apply to the state and local coastal management community. The goal of Special Projects is to provide assistance to the local coastal management community for technical or management issues on specific topics relating directly to growth management in coastal areas or human use of coastal resources.

Project Proposals

The applicant must submit one original and two copies of the proposal(s) by 5 p.m. (Eastern time) on January 11, 2002. In addition to the proposal(s), the applicant must submit a complete NOAA grants application package (with signed originals). No e-mail or fax copies will be accepted. All project proposals must total no more than 10 pages (double spaced, 12-point font, and exclusive of appendices). Appendices should be limited to materials that directly support the main body of the proposal; e.g., support letters, resumes, lists of data sources, maps. All appendix material must be unbound. All projects proposals must include sections on the seven following topics:

1. Goals and Objectives. Identify broad project goals and quantifiable objectives.

2. Background/Introduction. State the problem and summarize existing efforts at all levels.

3. Audience. Describe specifics of how the project will contribute to improving or resolving an issue with the primary target audience. The target audience must be explicitly stated.

4. Project Description/Methodology. Describe the specifics of the projects (3 page maximum).

5. Project Partners. Identify project partners and their respective roles.

6. Milestones and Outcomes. List target milestones, Time lines, and desired outcomes in terms of products and services.

7. Project Budget. Provide a detailed budget breakdown that follows the categories and formats in the NOAA grant package and a brief narrative that justifies each item. Project budgets must not exceed $25,000. Projects above $25,000 will not be considered.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and the selecting official (Center Director) will use those scores when she/he makes the final decision. The selecting official also may consider program policy factors in the final decision to ensure Center projects are balanced geographically and institutionally.

Evaluation criteria are:

1. Management Relevance (30 points)

• How well does the proposed project (directly or indirectly) address a critical national, regional, state, or local management need relating directly to growth management of coastal areas or human use of coastal resources?

• How well does the project involve partnerships with the state coastal management agency, National Estuarine Research Reserve, and/or National Marine Sanctuary?

• How clearly does the proposed project define the management audience and do the products have clearly defined users?

2. Technical Merit (35 points)

• How technically sound is the approach?

• How well does the proposed project build on existing knowledge?

• How clear and concise are the project goals and objectives?

• How well does the proposed project provide for long-term maintenance or sustainability of products and services?

• How innovative is the approach?

3. Applicability and Effectiveness of Products and their Delivery (25 points)

• How well does the proposed project produce useful (and easily used) products, services, or an understanding for the target audience and users?

• How likely is the project time line and project design to be flexible and responsive to public and user input?

• Is an evaluation process built into the project? How appropriate is it?

4. Efficiency and Overall Qualifications (10 points)

• How is the budget commensurate with the project needs?

• How capable are the proposer's of conducting a project of the scope and scale proposed? (i.e., Are there adequate professional, facility, and administrative capabilities?)

Selection Schedule

Proposals will be reviewed once during the year. The following schedule lists the dates for the project selection and award process for grants and/or cooperative agreements: Proposal Deadline (with completed grant package) January 11, 2002. Earliest Appropriate Grant Start Date—August 1, 2002 Note: All deadlines are for receipt by close of business (5 p.m. Eastern time) on the dates identified. Receipt of proposal and grant package (with original signatures) will be time stamped.

Funding Availability

Specific funding available for the award will be finalized after NOAA funds for FY 2002 are appropriated. Publication of this document does not obligate NOAA to fund any specific cooperative agreement or to award all or any part of the available funds. Anticipated funding in FY 2002 will be between $50,000 and $150,000. Two to six projects will be funded in the $20,000 to $25,000 range for 1 year with the potential for option years (depending on the availability of funds through the federal appropriation process). Projects above $25,000 will not be considered.

Cost Sharing

There is no requirement for cost sharing in response to this program announcement and no additional weight will be given to proposals with cost sharing.

Eligibility Criteria

Eligible applicants are institutions of higher educations, hospitals, other non-profits, commercial organizations, foreign governments, organizations under the jurisdiction of foreign governments, international organizations, and state, local and Indian tribal governments. Federal agencies or institutions are not eligible to receive Federal assistance under this announcement, but may be project partners. Note: Federal agencies or institutions who are project partners must demonstrate that they have legal authority to receive funds from another Federal agency in excess of their appropriation. Because this announcement is not proposing to procure goods or services from applicants, the Economy Act (31 U.S.C. 1535) is not an appropriate legal basis.

Authority

Statutory Authority for these programs is provided under 16 U.S.C. 1456C (Technical Assistance).

Outreach—Special Projects for the Pacific Islands

Project Description

NOAA's Coastal Services Center seeks proposals for special technical, management, or planning projects that directly apply to the goals of the Pacific Island coastal management community. Projects topics should relate to one or more of the four themes of the Coastal Services Center: Habitat, Hazards, Smart Coastal Growth, or Coastal National Spatial Data Infrastructure (CNSDI). Project proposals are due January 11, 2002, (with earliest start date August 1, 2002). See Selection Schedule. In FY 2002, the Center expects to award grants and cooperative agreements (for those projects with substantial Center involvement) to organizations with proven abilities to implement practical solutions in the Pacific Islands at a state and local level.

Background

The Center conducts a variety of projects that directly apply to the state and local coastal management community. The goal of this program is to provide assistance to the Pacific Island coastal management community for technical or management issues on a very broad range of topics related to coastal resources and their wise management.

Project Proposal

The applicant must submit one original and two copies of the proposal(s) by 5 p.m. (Eastern time) on January 11, 2002. In addition to the proposal(s), the applicant must submit a complete NOAA grants application package (with signed originals). No e-mail or fax copies will be accepted. All project proposals must total no more than 10 pages (double spaced, 12-point font, and exclusive of appendices). Appendices should be limited to materials that directly support the main body of the proposal; e.g., support letters, resumes, lists of data sources, and maps. All appendix materials must be unbound. All projects proposals must include sections on the seven following topics:

1. Goals and Objectives. Identify broad project goals and quantifiable objectives.

2. Background/Introduction. State the problem and summarize existing efforts at all levels.

3. Audience. Describe specifics of how the project will contribute to improving or resolving an issue with the primary target audience. The target audience must be explicitly stated.

4. Project Description/Methodology. Describe the specifics of the projects (3 page maximum).

5. Project Partners. Identify project partners and their respective roles.

6. Milestones and Outcomes. List target milestones, time lines, and desired outcomes in terms of products and services.

7. Project Budget. Provide a detailed budget breakdown that follows the categories and formats in the NOAA grant package and a brief narrative that justifies each item.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and the selecting official (Center Director) will use those scores when she/he makes the final decision. The selection official also may consider program policy factors in the final decision to ensure Center projects are balanced geographically and institutionally. Evaluation criteria are:

1. Management Relevance (30 points)

• How well does the proposed project (directly or indirectly) address a critical national, regional, state, or local management need relating directly to growth management of coastal areas or human use of coastal resources?

• How well does the project involve partnerships with the state coastal management agency, National Estuarine Research Reserve, and/or National Marine Sanctuary?

• How clearly does the proposed project define the management audience and do the products have clearly defined users?

2. Technical Merit (35 points)

• How technically sound is the approach?

• How well does the proposed project build on existing knowledge?

• How clear and concise are the project goals and objectives? Does the proposed project provide for long-term maintenance or sustainability of products and services?

• How innovative is the approach?

3. Applicability and Effectiveness of Products and their Delivery (25 points)

• How well does the proposed project produce useful (and easily used) products, services, or an understanding for the target audience and users?

• How likely is the project time line and project design to be flexible and responsive to public and user input?

• Is an evaluation process built into the project? How appropriate is it?

4. Efficiency and Overall Qualifications (10 points)

• How is the budget commensurate with the project needs?

• How capable are the proposers of conducting a project of the scope and scale proposed (i.e., Are there adequate professional, facility, and administrative capabilities?)

Selection Schedule

Proposals will be reviewed once during the year. The following schedule lists the dates for the project selection and award process for grants and/or cooperative agreements: Proposal Deadline (with completed application package)—January 11, 2002. Earliest Approximate Grant Start Date—August 1, 2002. Note: All deadlines are for receipt by close of business (5 p.m. Eastern time) on the dates identified. Receipt of proposal and grant package (with original signatures) will be time stamped.

Funding Availability

Specific funding available for awards will be finalized after NOAA funds for FY 2002 are appropriated. Publication of this notice does not obligate NOAA to fund any specific grant or cooperative agreement or to award all or any part of the available funds. Anticipated funding in FY 2002 will be between $50,000 and $200,000.00. Projects will be funded in the $25,000 to $75,000 range for 1 year with the potential for options years (depending on the availability of funds through the Federal appropriation process). Up to three projects per year of special merit or management may be considered at annual levels above $75,000 depending on the availability of funds.

Cost Sharing

There are no requirements for cost sharing in response to this program announcement and no additional weight will be given to proposals with cost sharing.

Eligibility Criteria

Eligible applicants are institutions of higher educations, hospitals, other non-profits, commercial organizations, foreign governments, organizations under the jurisdiction of foreign governments, international organizations, and state, local and Indian tribal governments. Federal agencies or institutions are not eligible to receive Federal assistance under this notice, but may be project partners. Note: Federal agencies or institutions who are project partners must demonstrate that they have legal authority to receive funds from another Federal agency in excess of their appropriation. Because this announcement is not proposing to procure goods or services from applicants, the Economy Act (31 U.S.C 1535) is not an appropriate legal basis.

Authority

Statutory Authority for these programs is provided under 16 U.S.C. 1456C (Technical Assistance).

Coastal Remote Sensing (CRS)—Examination of Impervious Surface Impacts Upon Coastal Water Quality

Project Description

The Center seeks proposals for projects that identify and quantify the complex relationship between impervious surfaces and impacts on water quality due to the effects of development in coastal areas. The Center is interested in understanding the linkages and interaction between constructed and natural surfaces within developed areas and the resulting coastal water quality impacts from surface water run-off, nutrient loading, and soil disturbance. The results of this project must demonstrate (e.g., via a geographic information system) the relationship between impervious surfaces and decreased water quality. These results would be used to help coastal managers make resource management, regulatory, or land-use planning decisions.

In FY 2002, the Center expects to award one grant to organizations across the United States with proven abilities to implement practical solutions at a state and local level. Proposed study topics must relate to water quality impacts from development in coastal areas. All project proposals received that meet the topic criteria will be reviewed for technical merit and management relevance.

Background

The Center conducts a variety of projects that directly apply to the state and local coastal resource management community. The goal of the Coastal Remote Sensing (CRS) program is to link coastal resource managers with meaningful data, information and products derived from remote sensing technology. Through partnerships with public and private organizations, CRS strives to deliver high-quality products useful for coastal resource management decision-making.

Project Proposals

The applicant must submit one original and two copies of the proposal(s) by 5 p.m. (Eastern time) on January 11, 2002. In addition to the proposal(s), the applicant must submit a complete NOAA grants application package (with signed originals). No e-mail or fax copies will be accepted. All project proposals must total no more than 10 pages (double spaced, 12-point font, and exclusive of appendices). Appendices should be limited to materials that directly support the main body of the proposal; e.g., support letters, resumes, lists of data sources, maps. All appendix material must be unbound. All project proposals must include sections on the following seven topics:

1. Goals and Objectives. Describe how your approach will meet the goal of better measuring the quantitative impact of impervious surface on water quality.

2. Background/Introduction. Provide background on this problem and some perspective on existing understanding of this issue.

3. Audience. Describe how the results of this project can be implemented at the state coastal resource management level.

4. Project Description/Methodology. Describe the specifics of the project (4-5 page maximum).

5. Project Partners. Identify project partners and their respective roles.

6. Milestones and Outcomes. List target milestones, time lines, and desired outcomes in terms of products and/or services.

7. Project Budget. Provide a detailed budget breakdown that follows the categories and formats in the NOAA grant package and a brief narrative that justifies each item.

Evaluation Criteria (With Weights) and Selection Process

Review panels, composed of two NOAA and at least two non-NOAA reviewers, will be established to assist in the evaluation of the proposals. Each member of the review panel will review independently each proposal using the evaluation criteria. The reviewers will not provide consensus advice. All proposals received will be ranked according to score and the selecting official (Center Director) will use those scores to aid in making the final decision. The selecting official also may consider program policy factors in the final decision to ensure Center projects are balanced geographically and institutionally.

Evaluation criteria are:

1. Management Relevance (10 points)

• Does the proposed project (directly or indirectly) address a critical national, regional, state, tribal or local management need relating directly to growth management of coastal areas?

• Does the project involve partnerships with a state coastal management agency, National Estuarine Research Reserve, and/or National Marine Sanctuary?

• Does the proposed project have a clearly defined management audience and do the products have clearly defined users?

2. Technical Merit (45 points)

• Is the approach technically sound?

• Does the proposed project build on existing knowledge?

• Are the project goals and objectives clear and concise?

• Does the proposed project provide for long-term maintenance or sustainability of products and services?

• Is the approach innovative?

3. Applicability and Effectiveness of Products and their Delivery (25 points)

• Will the proposed project produce useful (and easily used) products, services, or an understanding for the target audience and users?

• Is project time line and project design likely to be flexible and responsive to public and user input?

• Is an evaluation process built into the project? Is it appropriate?

4. Efficiency and Overall Qualifications (20 points)

• Is the budget commensurate with the project needs?

• Are the proposers capable of conducting a project of the scope and scale proposed? (i.e., Are there adequate qualified professional, facility, and administrative capabilities?)

Selection Schedule

Proposals will be reviewed once during the year. The following schedule lists the dates for the project selection and award process for grants: Proposal Deadline (with completed grant package) January 11, 2002. Earliest Appropriate Grant Start Date—August 1, 2002. Note: All deadlines are for receipt by close of business (5 p.m. Eastern time) on the dates identified. Receipt of proposal and grant package (with original signatures) will be time stamped.

Funding Availability

Specific funding available for the award will be finalized after NOAA funds for FY 2002 are appropriated. Publication of this document does not obligate NOAA to fund any specific grant or to award all or any part of the available funds. Total anticipated funding is $30,000 over one year and is subject to the availability of FY 2002 funding. Only one grant award is anticipated from this announcement.

Cost Sharing

There is no requirement for cost sharing in response to this program announcement and no additional weight will be given to proposals with cost sharing.

Eligibility Criteria

Eligible applicants are institutions of higher education, other non-profits, commercial organizations, state, local and Indian tribal governments. Federal agencies or institutions are not eligible to receive Federal assistance under this announcement, but may be project partners. Note: Federal agencies or institutions who are project partners must demonstrate that they have legal authority to receive funds from another Federal agency in excess of their appropriation. Because this announcement is not proposing to procure goods or services from applicants, the Economy Act (31 U.S.C. 1535) is not an appropriate legal basis.

Authority

Statutory Authority for these programs is provided under 16 U.S.C. 1456C (Technical Assistance).

Information Resources (IR)—Coastal Data and Information

Project Description

The Center seeks proposals for projects to make coastal data, products, and information available on-line using standard documentation formats and search technologies. Proposals may also include projects concerning the rescue of unique coastal data sets and the conversion to electronic media of coastal data, products, and information. The intent of this program is to increase the numbers of and improve the availability of coastal data and information needed by coastal resource managers and their staffs to accomplish their duties.

Maximum anticipated funding is $200,000 for a one year period and is subject to the availability of FY 2002 appropriations. It is intended that this funding will be distributed between multiple projects that take the form of a grant.

Background

The mission of the Center is to foster and sustain the environmental and economic well-being of the coast by linking people, information, and technology. The Information Resources program of the Center helps coastal resource managers and their staff find the data and information necessary to perform their tasks. To accomplish this, the Information Resources program improves access to and increases the availability of coastal data, products, and information. The Center actively supports the use of standards to document and share data, products, and information. In particular, the Center supports the use of the standards accepted by the FGDC and the Library of Congress. By using these standards, virtual networks of coastal data, products, and information can be built that provide crucial input for making coastal management decisions.

Project Proposals

The applicant must submit one original and two copies of the proposal(s) by 5 p.m. (Eastern time) on January 11, 2002. In addition to the proposal(s), the applicant must submit a complete NOAA grants application package (with signed originals). No e-mail or fax copies will be accepted. All project proposals must total no more than 10 pages (double spaced, 12-point font, and exclusive of appendices). Appendices should be limited to materials that directly support the main body of the proposal; e.g. support letters, resumes, lists of data sources, and maps. All appendix material must be unbound. All project proposals must include the sections on the four following topics:

1. Technical Issues

• Project Description. Address how the project will be implemented. It should include an overview of the data, product, or information resource that will be made available on-line and any plans for data rescue or conversion of resources to electronic media. If applicable, it should include plans for the development of a customized interface and how it will relate.

• Data and Information Description. Describe the data and/or information that will be made available via the server.

• Server Description. Describe how the resource description and, if applicable, the resource itself will be made available on-line. Include plans for implementing an FGDC Clearinghouse node (server), catalog server, or arrangements for posting the resource description through an existing server.

• Relation to Other Data Projects. If applicable, describe how this project relates to other ongoing programs.

2. Relevance and Scope

• Appropriateness to U.S. Coastal Resource Managers. Describe how the data and/or information might be used by coastal resource managers and/or their staffs. Describe the scope of the project and who it benefits.

• Description of Metadata or Catalog Records Anticipated. Include the number of records anticipated and the level of detail included in the metadata or catalog records.

3. Future Plans

• Post-proposal Plans. Describe plans for maintenance of the data or information resource. For data rescue projects, please include plans for archiving the data.

4. Milestones and Budget

• Milestones. Provide a schedule for the project with milestones.

• Project Budget. Provide a detailed budget breakdown that follows the categories and formats in the NOAA grant package and a brief narrative that justifies each item.

All proposals regarding data and data products must include plans for documenting the data and/or data products using the Federal Geographic Data Committee (FGDC) metadata standard and posting this metadata on a node (server) that is registered at the FGDC Clearinghouse. Further information on the FGDC metadata standard and Clearinghouse architecture can be found on the FGDC Web site at www.fgdc.gov. Proposals may include the development of a customized interface to the FGDC Clearinghouse node (server) for improved access to the data or data product resource.

Proposals that include coastal products and information must include plans for making catalog entries searchable through a standard on-line public access catalog, preferably using the Z39.50 protocol. Any new cataloging of information materials (publications, CD-ROMS, videos, etc.) must follow the USMARC standard. Consideration will be given to making pre-existing catalog entries that are not in USMARC available on-line. More information on USMARC and Z39.50 may be found on the Library of Congress Web site at www.loc.gov. Proposals may include the development of a customized interface to a Z39.50 catalog server to provide customized search capabilities to the information resource.

Proposals that cover data rescue or the conversion to electronic media of coastal data, products, or information must also include plans for documenting the data, products, and/or information using the appropriate standard mentioned above. In addition, proposals for rescuing data must include plans for archiving the data at an appropriate national data center.

Evaluation Criteria (with Weights) and Selection Process

Review panels, composed of two NOAA and at least two non-NOAA reviewers, will be established to assist in the evaluation of the proposals. Each member of the review panel will review independently each proposal using the evaluation criteria. The reviewers will not provide consensus advice. All proposals received will be ranked according to score and the selecting official (Center Director) will use those scores when she/he makes the final decision. The selecting official also may consider program policy factors in the final decision to ensure Center projects are balanced geographically and institutionally. Evaluation criteria are:

1. Technical merit (40 points). The proposal will be judged on the technical merit on the plans for development of metadata or new catalog records, how the FGDC Clearinghouse or catalog server will be implemented, and, if applicable, plans for development of additional search interfaces, data rescue, and conversion to electronic media. Proposals which do not directly address how metadata/catalog records will be produced, or how the Clearinghouse/Catalog server will be implemented will not be considered acceptable.

2. Relevance and scope (35 points). The proposal will be judged on the importance of the resource to coastal management issues. Priority will be given to those proposals that provide detailed (I level catalog or full FGDC metadata record) versus less detailed (K level catalog or “metalite” record).

3. Future plans (15 points). The proposal will be judged on the plans for future maintenance of the descriptive records (metadata or catalog records) and Clearinghouse or catalog server.

4. Milestones and budget (10 points). The proposal will be judged on the amount requested versus the technical merit and relevance.

Selection Schedule

Proposals will be reviewed once during the year. The following schedule lists the dates for the project selection and award process for grants: Proposal deadline with completed grant package—January 11, 2002. Earliest approximate grant start date—August 1, 2002. Note: All deadlines are for receipt by close of business (5 p.m. Eastern time) on the dates identified. Receipt of proposal and grant package with original signatures will be time stamped.

Funding Availability

Specific funding available for awards will be finalized after NOAA funds for FY 2002 are appropriated. Total funding available for this grant with the Information Resources program is anticipated to be no more than $200,000 and funding will be distributed over multiple projects. Publication of this notice does not obligate NOAA to fund any specific grant or to award all or any part of the available funds.

Cost Sharing

There is no requirement for cost sharing in response to this program announcement and no additional weight will be given to proposals with cost sharing.

Eligibility Criteria

Eligible applicants are institutions of higher education, hospitals, other non-profits, foreign governments, organizations under the jurisdiction of foreign governments, international organizations, and state, local, and Indian tribal governments. Commercial organizations that have a formal collaborative partnership with a state or local resource coastal management office are encouraged to apply. Federal agencies or institutions are not eligible to receive Federal assistance under this notice, but may be project partners. Note: Federal agencies or institutions who are project partners must demonstrate that they have legal authority to receive funds from another federal agency in excess of their appropriation. Because this announcement is not proposing to procure goods or services from applicants, the Economy Act (31 U.S.C. 1535) is not an appropriate legal basis.

Authority

Statutory authority for these programs is 16 U.S.C. 1456C (Technical Assistance).

Director's Office—Coastal Management Decision Making Tools

Project Description

The Center seeks proposals for projects under which the applicant(s) will design and apply prototype decision making tools and information products for coastal resource management. Emphasis will be placed on projects that address coastal habitat management. Projects should be based on a clear understanding of federal, state, and local coastal managers' needs, and assessment of their capabilities to address these needs. Projects should include the design of customized training products to accelerate introduction of results to the target audience and to guide users through performing procedures and making decisions using new tools. Total available funding is anticipated to be between $100,000 to $200,000, for one year, subject to the availability of federal appropriations. The Center expects to award only one to two grants under this announcement.

Background

The goal is to make it possible for coastal managers and regulators at all levels to use the best technology and information to make science-based decisions for managing coastal resources. The Center supports this goal by establishing coalitions at all levels including government, academia, and private and non-profit organizations to develop and test decision making tools and information products for coastal management.

Projects must directly address habitat management issues that are both of local significance and of regional importance. Products should be market driven and compatible with end users' capabilities. The project scope would involve design and development of a prototype, field application and evaluation with end users, final product development, and training. Past experience has revealed that this iterative process is best accomplished by coalitions of technology developers, technology deliverers, and end users.

Roles and Responsibilities

It is intended that each project be implemented as a partnership between the recipient and end-users of the project's products. In their proposals, potential recipients should propose the respective roles and responsibilities of the recipient and any project partners. At a minimum, the roles and responsibilities of the recipient shall include:

• Identifying the management issues that guide development of the product

• Identifying the information needed to address the issues

• Developing partnerships with other end users, including members of the coastal management community

• Developing and collecting the information and tools needed to address the management issues

• Developing all other information needed to assess the quality and utility of the data and tools

• Determining how the products should be organized to maximize utility to the end users

Project Proposals

The applicant must submit one original and two copies of the proposal(s) by 5 p.m. (Eastern time) on January 11, 2002. In addition to the proposal, the applicant must submit a complete NOAA grants application package (with signed originals). No e-mail or fax copies will be accepted. All project proposals must include the following sections and total no more than 15 pages (double spaced, 12-point font, and exclusive of appendices). Appendices should be limited to materials that directly support the main body of the proposal; e.g., support letters, resumes, lists of data sources, maps. All appendices material must be unbound. All project proposals must include sections on the following topics:

1. Goals and Objectives. Identify the specific management goals and objective of the project, including description of current management goals that are not being achieved, how products from the project will significantly address that deficiency, and the benefits that will result to the coastal management community and other end users.

2. Background/Introduction. Provide sufficient background information for reviewers to independently assess the local significance and regional importance of the management goals that will be addressed by the project. Summarize the status of any existing efforts to address these goals.

3. Audience. Identify potential users of the product, how those users will incorporate the product into their management needs, and identify training needed for users to make full use of the products.

4. Project Description/Methodology. Provide a general work plan that divides the project into discrete steps, identifies critical decision points, and discusses any obstacles to completing the project that may require special planning. One of the initial tasks of the project will be for the recipient to prepare a detailed task plan. The work plan requested for this part of the proposal should demonstrate that the recipient and partners have sufficient local knowledge of the management problems to lead a joint effort directed toward developing appropriate solutions.

5. Project Partners and Support. Identify project partners and describe their respective roles. Describe the resources the recipient and partners have for conducting the project, including personnel qualifications (education, experience, and time available to work on the project), facilities, equipment, and, to the extent practicable, the information and tools already available. Describe how widely the project is supported within the coastal management community and provide evidence of that support.

6. Milestone Schedule. List target milestones, timelines, and describe how each milestone addresses project objectives.

7. Project Budget. Provide a detailed budget breakdown that follows the categories and formats in the NOAA grants package and a brief narrative justification of the budget.

Evaluation Criteria (With Weights) and Selection Process

A review panel, composed of two NOAA and at least two non-NOAA reviewers, will be established to assist in the evaluation of proposals. All proposals received will be ranked according to score and the selecting official (the Center's Director) will use those scores to aid in making the final decision. The selecting official may also consider program policy factors in the final decision to ensure the Center's projects are balanced geographically and institutionally. Evaluation criteria are:

1. Significance (20 points)—How well the proposal demonstrates the local significance and regional importance of the issues or management objectives that will guide development of the project products. At a minimum, the proposal must identify management goals that currently are not being achieved, describe how products from the project will significantly address that deficiency, and the benefits that will result to the public and coastal management community.

2. Technical Approach (30 points)—How well the proposal divides the project into discrete tasks that make effective use of the technical capabilities of the cooperator and partners. This factor also includes the technical merit of the process that the cooperator has outlined for developing the project's products.

3. Outcomes (20 points)—How well the applicant demonstrates that the project outcomes significantly will address the management issues targeted by the project and that the collective resources of the applicant and partners will ensure projected outcomes are met.

4. Partnerships (20 points)—How well the proposal demonstrates that the project is broadly supported by the coastal management community, that a broad group of end users, including coastal managers and constituent groups, will contribute to design and assembly of products; that a broad group of coastal managers and other end users will use the products; and that the knowledge and expertise of the cooperator and partners will be effectively leveraged.

5. Cost Efficiency (10 points)—How well the proposal demonstrates that the budget is commensurate with project needs and that the partnerships employed will improve the overall cost effectiveness of the project and value of the products. There is no requirement for cost sharing.

Selection Schedule

Proposals will be reviewed once during the year. The following schedule lists the dates for the project selection and award process for grants. Proposal Deadline (with completed grant package)—January 11, 2002. Earliest Approximate Grant Start Date August 1, 2002. NOTE: The deadline is close of business, 5:00 PM Eastern time, on the date identified. Receipt of proposal and grant package (with original signatures) will be time stamped.

Funding Availability

Specific funding available for awards will be finalized after NOAA funds for FY2002 are appropriated and made available. Total funding available under this announcement for projects to scope, develop and test prototype coastal management decision-making tools and information products will be between $100,000 and $200,000. Publication of this notice does not obligate NOAA to fund any specific grant or to award all or any part of the available funds.

Cost Sharing

There is no requirement for cost sharing in response to these guidelines. However, proposals that include cost sharing or other in-kind resources will likely score highly under the criteria on cost efficiency above.

Eligibility Criteria

Applications for projects under this announcement may be submitted, in accordance with the procedures set forth in these specific guidelines, by any regional, state or local government agency; college or university; nonprofit organization; cooperative research unit; or private sector firm. Other federal agencies or institutions are not eligible to receive federal assistance under this notice but may be project partners.

Authority

Statutory authority for these programs is provided under 16 U.S.C. 1456c (Technical Assistance); and 15 U.S.C. 1540 (Cooperative Agreements).

General Information for all Programs

The Department of Commerce Pre-Award Notification Requirements for Grants and Cooperative Agreements contained in the Federal Register notice of October 01, 2001 (66 FR 49917), are applicable to this solicitation.

The recipients must comply with Executive Order 12906 regarding any and all geospatial data collected or produced under grants or cooperative agreements. This includes documenting all geospatial data in accordance with the Federal Geographic Data Committee Content Standard for digital geospatial data.

Classification

This action has been determined to be not significant for purposes of Executive Order 12866.

Prior notice and an opportunity for public comment are not required by the Administrative Procedure Act (APA) or any other law for this notice concerning grants, cooperative agreements, benefits, and contracts. Therefore, a regulatory flexibility analysis is not required for purposes of the Regulatory Flexibility Act (RFA).

Notwithstanding any other provision of law, no person is required to respond to, nor shall any person be subject to a penalty for failure to comply with, a collection of information subject to the Paperwork Reduction Act, unless that collection displays a currently valid OMB control number. The use of the standard grants application package referred to in this notice involves collection-of-information requirements subject to the Paperwork Reduction Act. The use of Standard Forms 424, 424A, 424B, SF-LLL, and CD-346 have been approved by OMB under the respective Control Numbers 0348-0043, 0348-0044, 0348-0040, 0348-0046, and 0605-0001.

Dated: October 5, 2001.
Jamison S. Hawkins,
Deputy Assistant Administrator for Ocean Services and Coastal Zone Management.

[FR Doc. 01-25776 Filed 10-12-01; 8:45 am]

BILLING CODE 3510-ET-S